DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with February anniversary dates. In accordance with Commerce's regulations, we are initiating those administrative reviews.

DATES: Applicable April 12, 2022.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with February anniversary dates.

All deadlines for the submission of various types of information, certifications, or comments or actions by Commerce discussed below refer to the number of calendar days from the applicable starting time.

Notice of No Sales

With respect to antidumping administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

Exporters and producers must file a timely Separate Rate Application or Certification if they want to be considered for respondent selection. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than February 28, 2023.

| Period to be reviewed
AD Proceedings
INDIA: Certain Frozen Warmwater Shrimp, A-533-840 | 2/1/21-1/31/22
Abad Fisheries
Accelerated Freeze Drying Co., Ltd
ADF Foods Ltd
Akshay Food Impex Private Limited
Alashore Marine Exports (P) Ltd
Albys Agro Private Limited
Al-Hassan Overseas Private Limited
Allana Frozen Foods Pvt. Ltd
Allanasons Ltd
Alpha Marine
Alps Ice & Cold Storage Private Limited
Amaravathi Aqua Exports Private Ltd
Amarsagar Seafoods Private Limited
Amulya Seafoods
Ananda Enterprises (India) Private Limited
Ananda Group (comprised of Ananda Aqua Applications; Ananda Aqua Exports (P) Limited; and Ananda Foods)
Anantha Seafoods Private Limited
Anjaneya Seafoods
Apex Frozen Foods Limited
Aquatica Frozen Foods Global Pvt. Ltd
Arya Sea Foods Private Limited
Asvini Agro Exports
Asvini Fisheries Ltd./Asvini Fisheries Private Ltd
Avanti Frozen Foods Private Limited
Ayshwarya Sea Food Private Limited
B R Traders
Baby Marine Eastern Exports
Baby Marine Exports
Baby Marine International
Baby Marine Sarass
Baby Marine Ventures
Balasore Marine Exports Private Limited
BB Estates & Exports Private Limited
Bell Exim Private Limited
Bhatsons Aquatic Products
Bhavani Seafoods
Bhimraj Exports Private Limited
Bijaya Marine Products
Blue-Fin Frozen Foods Private Limited
Blue Water Foods & Exports P. Ltd
Bluepark Seafoods Pvt. Ltd
BMR Exports
BMR Industries Private Limited
B-One Business House Pvt. Ltd
Britto Seafood Exports Pvt Ltd
C.P. Aquaculture (India) Pvt. Ltd
Calcutta Seafoods Pvt. Ltd./Bay Seafood Pvt. Ltd./Elque & Co
Canaan Marine Products
Capithan Exporting Co
Cargomar Private Limited
Castlerock Fisheries Ltd
Chakri Fisheries Private Limited
Chemmeens (Regd)
Cherukattu Industries (Marine Div)
Choice Trading Corporation Pvt. Ltd
Coastal Aqua Private Limited
Coastal Corporation Ltd
Cochin Frozen Food Exports Pvt. Ltd
Cofoods Processors Private Limited
Continental Fisheries India Private Limited
Coreline Exports
Corlim Marine Exports Private Limited
CPF (India) Private Limited
Crystal Sea Foods Private Limited
Danica Aqua Exports Private Limited
Datla Sea Foods
Delsea Exports Pvt. Ltd
Deepak Nexgen Foods and Feeds Pvt. Ltd
Dwaraka Sea Foods
Devi Fisheries Group (comprised of Devi Fisheries Limited; Satya Seafoods Private Limited; Usha Seafoods; and Devi Aquatech Private Limited)
Devi Sea Foods Limited ⁵
DSF Aquatech Private Limited
Empire Industries Limited
Entel Food Products Private Limited
Esmario Export Enterprises
Everblue Sea Foods Private Limited
Falcon Marine Exports Limited/KR Enterprises
Febin Marine Foods Private Limited
Fedora Sea Foods Private Limited
Five Star Marine Exports Private Limited
Food Products Pvt., Ltd./Parayil Food Products Pvt., Ltd
Forstar Frozen Foods Pvt. Ltd
Fouress Food Products Private Limited
Frontline Exports Pvt. Ltd
G A Randerian Ltd
Gadre Marine Exports (AKA Gadre Marine Exports Pvt. Ltd.)
Galaxy Maritech Exports P. Ltd
Geo Aquatic Products (P) Ltd
Geo Seafoods
Godavari Mega Aqua Food Park Private Limited
Grandtrust Overseas (P) Ltd
Growel Processors Private Limited
GVR Exports Pvt. Ltd
Hari Marine Private Limited
Haripriya Marine Exports Pvt. Ltd
HIC ABF Special Foods Pvt. Ltd
Highland Agro
Hiravati Exports Pvt. Ltd
Hiravati International Pvt. Ltd
Hiravati Marine Products Private Limited
HMG Industries Ltd
HN Indigos Private Limited
Hyson Exports Private Limited
Hyson Logistics and Marine Exports Private Limited
IFB Agro Industries Limited
Indian Aquatic Products
Indo Aquatics
Indo Fisheries
Indo French Shellfish Company Private Limited
International Freezefish Exports
ITC Ltd
Jagadeesh Marine Exports
Jaya Lakshmi Sea Foods Pvt. Ltd
Jinny Marine Traders
Jude Foods India Private Limited
K.V. Marine Exports
The Kadalkanny Group (comprised of Diamond Seafoods Exports; Edhayam Frozen Foods Pvt. Ltd.; Kadalkanny Frozen Foods; and Theva & Company)
Kalyan Aqua & Marine Exp. India Pvt. Ltd
Karunya Marine Exports Private Limited
Kaushalya Aqua Marine Product Exports Pvt. Ltd
Kay Kay Exports
Kings Infra Ventures Limited
Kings Marine Products
KNC Agro Limited
Koluthara Exports Ltd
Liberty Group (comprised of Devi Marine Food Exports Private Ltd.; Kader Exports Private Limited; Kader Investment and Trading Company Private Limited; Liberty Frozen Foods Private Limited; Liberty Oil Mills Limited; Premier Marine Products Private Limited; and Universal Cold Storage Private Limited)
Libran Foods
Lito Marine Exports Private Limited
LNSK Green House Agro Products LLP
Magnum Export/Magnum Exports Pvt. Ltd
Magnum Seafoods Limited/Magnum Estates Private Limited
Mangala Marine Exim India Pvt. Ltd
Mangala Sea Products
Mangala Seafoods (AKA Mangala Sea Foods)
Marine Harvest India
Megaa Moda Pvt. Ltd
Milesh Marine Exports Private Limited
Milsha Agro Exports Pvt. Ltd
Milsha Sea Products
Minaxi Fisheries Private Limited
Mindhola Foods LLP
Minh Phu Group
MMC Exports Limited
Monsun Foods Pvt. Ltd
Mourya Aquex Pvt. Ltd
MTR Foods
Munnangi Seafoods Pvt) Ltd
Naga Hanuman Fish Packers
Naik Frozen Foods Private Limited
Naik Oceanic Exports Pvt. Ltd./Rafiq Naik Exports Pvt. Ltd
Naik Seafoods Ltd
NAS Fisheries Pvt. Ltd
Neeli Aqua Private Limited
Nekkanti Mega Food Park Private Limited
Nekkanti Sea Foods Limited
Nezami Rekha Sea Foods Private Limited
Nila Sea Foods Exports/Nila Sea Foods Pvt. Ltd
Nine Up Frozen Foods
N.K. Marine Exports LLP
Nutrient Marine Foods Limited
Oceanic Edibles International Limited
Paragon Sea Foods Pvt. Ltd
Paramount Seafoods
Pasupati Aquatics Private Limited
Penver Products (P) Ltd
Pesca Marine Products Pvt., Ltd
Poyilakada Fisheries Private Limited
Pijikay International Exports P Ltd
Pravesh Seafood Private Limited
Premier Exports International
Premier Marine Foods
Premier Seafoods Exim (P) Ltd
Protech Organo Foods Private Limited
Raju Exports
Rajyalaksmi Marine Exports
Ram's Assorted Cold Storage Limited
Raunaq Ice & Cold Storage
Razban Seafoods Ltd
RDR Exports
Rising Tide
RF Exports Private Limited
Riyarchita Agro Farming Private Limited
Royal Imports and Exports
Royale Marine Impex Pvt. Ltd
RSA Marines/Royal Oceans
Rupsha Fish Private Limited
R V R Marine Products Private Limited
S.A. Exports
S Chanchala Combines
Safera Food International
Sagar Grandhi Exports Pvt. Ltd
Sagar Samrat Seafoods
Sahada Exports
Sai Aquatechs Private Limited
Sai Marine Exports Pvt. Ltd
Sai Sea Foods
Salet Seafoods Pvt. Ltd
Samaki Exports Private Limited
Sanchita Marine Products Private Limited
Sandhya Aqua Exports Pvt. Ltd
Sandhya Marines Limited
Sassoondock Matsyodyog Sahakari Society Ltd
Sea Doris Marine Exports
Sea Foods Private Limited
Seagold Overseas Pvt. Ltd
Seasaga Enterprises Private Limited/Seasaga Group
Sharat Industries Ltd
Shimpo Exports Private Limited
Shimpo Seafoods Private Limited
Shiva Frozen Food Exp. Pvt. Ltd
Shree Datt Aquaculture Farms Pvt. Ltd
Shroff Processed Food & Cold Storage P Ltd
Sigma Seafoods
Silver Seafood
Sita Marine Exports
Sonia Fisheries
Southern Tropical Foods Pvt. Ltd
Sprint Exports Pvt. Ltd
Sreeragam Exports Private Limited
Sri Sakkthi Cold Storage
Srikanth International
SSF Ltd
Star Agro Marine Exports Private Limited
Star Organic Foods Private Limited
Stellar Marine Foods Private Limited
Sterling Foods
Summit Marine Exports Private Limited
Sun Agro Exim
Sunrise Seafoods India Private Limited
Supran Exim Private Limited
Suryamitra Exim Pvt. Ltd
Suvarna Rekha Exports Private Limited
Suvarna Rekha Marines P Ltd
TBR Exports Private Limited
Tej Aqua Feeds Private Limited
Teekay Marines Private Limited
The Waterbase Limited
Torry Harris Seafoods Ltd
Triveni Fisheries P Ltd
U & Company Marine Exports
Ulka Sea Foods Private Limited
Uniloids Biosciences Private Limited
Uniroyal Marine Exports Ltd
Unitriveni Overseas Private Limited
V V Marine Products
Vaisakhi Bio-Marine Private Limited
Vasai Frozen Food Co
Vasista Marine
Veerabhadra Exports Private Limited
Veronica Marine Exports Private Ltd
Victoria Marine & Agro Exports Ltd
Varma Marine
Vinner Marine
Vitality Aquaculture Pvt. Ltd
VKM Foods Private Limited
VRC Marine Foods LLP
Wellcome Fisheries Limited
West Coast Fine Foods (India) Private Limited
West Coast Frozen Foods Private Limited
Z.A. Sea Foods Pvt. Ltd
Zeal Aqua Limited
INDIA: Carbon and Alloy Steel Threaded Rod, A-533-887 ⁶ | 9/25/19-3/31/21
Kova Fasteners Pvt., Ltd
INDIA: Stainless Steel Bar, A-533-810 | 2/1/21-1/31/22
Bhansali Bright Bars Pvt. Ltd
Bhansali Inc
Hindustan Inox Ltd
Laxcon Steels Limited
Mega Steels Private Limited
Metlax International Private Limited
Ocean Steels Private Limited
Parvati Private Limited
Precision Metals
Sieves Manufacturers (India) Pvt. Ltd
Venus Group
Venus Wire Industries Pvt. Ltd
ITALY: Stainless Steel Butt-Weld Pipe Fittings, A-475-828 | 2/1/21-1/31/22
Filmag Italia, SpA
MALAYSIA: Stainless Steel Butt-Weld Pipe Fittings, A-557-809 | 2/1/21-1/31/22
Pantech Stainless & Alloy Industries Sdn. Bhd
Statewell Co., Ltd
MEXICO: Large Residential Washers, A-201-842 | 2/1/21-1/31/22
Electrolux Home Products Corp. NV
Electrolux Home Products de Mexico S.A. de C.V
PHILIPPINES: Stainless Steel Butt-Weld Pipe Fittings, A-565-801 | 2/1/21-1/31/22
E N Corporation
Enlin Steel Corporation
Vinox Corporation (a/k/a Vinoc Corporation)
REPUBLIC OF KOREA: Certain Cut-To-Length Carbon-Quality Steel Plate, A-580-836 | 2/1/21-1/31/22
BDP International
Dongkuk Steel Mill Co., Ltd
Hyundai Steel Company
Sung Jin Steel Co., Ltd
SOCIALIST REPUBLIC OF VIETNAM: Certain Frozen Warmwater Shrimp, A-552-802 ⁷ | 2/1/21-1/31/22
Amanda Seafood Co., Ltd
An Nguyen Investment Production and Group
Anh Khoa Seafood
Anh Minh Quan Corp
APT Co
Au Vung One Seafood
Bien Dong Seafood Co., Ltd
BIM Foods Joint Stock Company
Binh Dong Fisheries Joint Stock Company
Binh Thuan Import-Export Joint Stock Company
Blue Bay Seafood Co., Ltd
Cadovimex
Cadovimex II Seafood Import Export and Processing Joint Stock Company
Cadovimex Seafood Import-Export and Processing Joint Stock Company
Cantho Import Export Seafood Joint Stock Company
Caseamex
CJ Cau Tre Foods Joint Stock Company
Coastal Fisheries Development Corporation
COFIDEC
Danang Seafood Import Export
Danang Seaproducts Import-Export Corporation
Dong Hai Seafood Limited Company
Dong Phuong Seafood Co., Ltd
Duc Cuong Seafood Trading Co., Ltd
Duong Hung Seafood
FFC
Fine Foods Company
Gallant Dachan Seafood Co., Ltd
Gallant Ocean (Vietnam) Co. Ltd
Go Dang Joint Stock Company
GODACO Seafood
Green Farms Seafood Joint Stock Company
Hanh An Trading Service Co., Ltd
Hong Ngoc Seafood Co., Ltd
Hung Bang Company Limited
Hung Dong Investment Service Trading Co., Ltd
HungHau Agricultural Joint Stock Company
JK Fish Co., Ltd
Khanh Hoa Seafoods Exporting Company
KHASPEXCO
Long Toan Frozen Aquatic Products Joint Stock Company
MC Seafood
Minh Bach Seafood Company Limited
Minh Cuong Seafood Import Export Processing Joint Stock Company
Minh Phu Hau Giang Seafood ⁸
Minh Phu Seafood Corporation ⁹
Minh Qui Seafood Co., Ltd.¹⁰
Nam Viet Seafood Import Export Joint Stock Company
Namcan Seaproducts Import Export Joint Stock Company
New Generation Seafood Joint Stock Company
New Wind Seafood Co., Ltd
Ngoc Trinh Bac Lieu Seafood Co., Ltd
Nguyen Chi Aquatic Product Trading Company Limited
Nhat Duc Co., Ltd
Nigico Co., Ltd
Phuong Nam Foodstuff Corp
QAIMEXCO
Quang Minh Seafood Co., Ltd
Quoc Ai Seafood Processing Import Export Co., Ltd
Quoc Toan PTE
Quoc Toan Seafood Processing Factory
Quy Nhon Frozen Seafoods Joint Stock Company
Safe and Fresh Aquatic Products Joint Stock Company
Safe and Fresh Co
Saigon Aquatic Product Trading Joint Stock Company
Saigon Food Joint Stock Company
SEADANANG
Seafood Joint Stock Company No. 4
Seafood Travel Construction Import-Export Joint Stock Company
Seanamico
Seaspimex Vietnam
Seavina Joint Stock Company
Soc Trang Seafood Joint Stock Company
South Ha Tinh Seaproducts Import-Export Joint Stock Company
South Vina Shrimp-SVS
Southern Shrimp Joint Stock Company
Special Aquatic Products Joint Stock Company
STAPIMEX
T & P Seafood Company Limited
T&T Cam Ranh
Tai Nguyen Seafood Co., Ltd
Tan Phong Phu Seafood Co., Ltd
Tan Thanh Loi Frozen Food Co., Ltd
THADIMEXCO
Thai Hoa Foods Joint Stock Company
Thai Minh Long Seafood Company Limited
Thaimex
Thanh Doan Fisheries Import-Export Joint Stock Company
Thanh Doan Sea Products Import & Export Processing Joint-Stock Company
Thanh Doan Seafood Import Export Trading Joint-Stock Company
The Light Seafood Company Limited
Thien Phu Export Seafood
Thinh Hung Co., Ltd
Thinh Phu Aquatic Products Trading Co., Ltd
Thong Thuan Cam Ranh Seafood Joint Stock Company
TPP Co. Ltd
Trading and Import-Export Co., Ltd
Trang Corporation (Vietnam)
Trung Son Seafood Processing Joint Stock Company
Van Duc Food Company Limited
Viet Phu Foods and Fish Corp
Viet Shrimp Corporation
VIFAFOOD
Vinh Hoan Corp
Vinh Phat Food Joint Stock Company
XNK Thinh Phat Processing Company
TAIWAN: Crystalline Silicon Photovoltaic Products, A-583-853 | 2/1/21-1/31/22
AU Optronics Corporation
Baoding Jiasheng Photovoltaic Technology Co. Ltd
Baoding Tianwei Yingli New Energy Resources Co., Ltd
Beijing Tianneng Yingli New Energy Resources Co. Ltd
Boviet Solar Technology Co., Ltd
Canadian Solar Inc
Canadian Solar International, Ltd
Canadian Solar Manufacturing (Changshu), Inc
Canadian Solar Manufacturing (Luoyang), Inc
Canadian Solar Solution Inc
EEPV CORP
E-TON Solar Tech. Co., Ltd
Gintech Energy Corporation
Hainan Yingli New Energy Resources Co., Ltd
Hengshui Yingli New Energy Resources Co., Ltd
Inventec Energy Corporation
Inventec Solar Energy Corporation
Kyocera Mexicana S.A. de C.V
Lixian Yingli New Energy Resources Co., Ltd
Motech Industries, Inc
Neo Solar Power Corporation
Shenzhen Yingli New Energy Resources Co., Ltd
Sino-American Silicon Products Inc
Solartech Energy Corporation
Sunengine Corporation Ltd
Sunrise Global Solar Energy
Tianjin Yingli New Energy Resources Co., Ltd
TSEC Corporation
United Renewable Energy Co., Ltd
Vina Solar Technology Co., Ltd
Win Win Precision Technology Co., Ltd
Yingli Energy (China) Co., Ltd
Yingli Green Energy International Trading Company Limited
THAILAND: Certain Frozen Warmwater Shrimp, A-549-822 | 2/1/21-1/31/22
A. Wattanachai Frozen Products Co., Ltd
A.P. Frozen Foods Co., Ltd
A.S. Intermarine Foods Co., Ltd
Ampai Frozen Food Co., Ltd
Anglo-Siam Seafoods Co., Ltd
Apitoon Enterprise Industry Co., Ltd
Asian Alliance International Co., Ltd
Asian Sea Corporation Public Company Limited
Asian Seafoods Coldstorage PLC
Asian Seafoods Coldstorage Public Co., Ltd. (A.K.A. Asian Seafoods Coldstorage (Suratthani) Co.)
Asian Seafoods Coldstorage Public Company Limited
Asian Star Trading Co., Ltd
B.S.A. Food Products Co., Ltd
Bright Sea Co., Ltd./The Union Frozen Products Co., Ltd.¹¹
C N Import Export Co., Ltd
C.K. Frozen Fish and Food Co., Ltd
C.P. Intertrade Co. Ltd
Chaivaree Marine Products Co., Ltd
Chanthaburi Frozen Food Co., Ltd.¹²
Chanthaburi Seafoods Co., Ltd.¹³
Charoen Pokphand Foods Public Company Limited/CP Merchandising Co., Ltd.¹⁴
Chonburi LC
Commonwealth Trading Co., Ltd
CPF Food Products Co., Ltd
Crystal Frozen Foods Co., Ltd
Daedong (Thailand) Co., Ltd
Daiei Taigen (Thailand) Co., Ltd
Daiho (Thailand) Co., Ltd
Earth Food Manufacturing Co., Ltd
F.A.I.T. Corporation Limited
Far East Cold Storage Co., Ltd
Findus (Thailand) Ltd
Fortune Frozen Foods (Thailand) Co., Ltd
Gallant Ocean (Thailand) Co., Ltd
Golden Seafood International Co., Ltd
Good Fortune Cold Storage Ltd
Good Luck Product Co., Ltd
Grobest Frozen Foods Co., Ltd
Haitai Seafood Co., Ltd
Handy International (Thailand) Co., Ltd
Heritrade Co., Ltd. (AKA Heritrade)
HIC (Thailand) Co., Ltd
I.T. Foods Industries Co., Ltd
Inter-Oceanic Resources Co., Ltd
Inter-Pacific Marine Products Co., Ltd
K & U Enterprise Co., Ltd
Kiang Huat Sea Gull Trading Frozen Food Public Co., Ltd
Kingfisher Holdings Ltd./KF Foods Limited ¹⁵
Kitchens of the Ocean (Thailand) Ltd
Kongphop Frozen Foods Co., Ltd
Kyokuyo Global Seafoods Co., Ltd
Lee Heng Seafood Co., Ltd
Li-Thai Frozen Foods Co., Ltd
Lucky Union Foods Co., Ltd
Mahachai Food Processing Co., Ltd
Marine Gold Products Ltd. ¹⁶
May Ao Foods Co., Ltd./A Foods 1991 Co., Limited ¹⁷
Merkur Co., Ltd
N&N Foods Co., Ltd
N.R. Instant Produce Co., Ltd
Narong Seafood Co., Ltd
Nongmon SMJ Products
Pacific Fish Processing Co., Ltd
Penta Impex Co., Ltd
Phatthana Frozen Food Co., Ltd. ¹⁸
Phatthana Seafood Co., Ltd. ¹⁹
Premier Frozen Products Co., Ltd
Royal Andaman Seafood Co., Ltd
S&D Marine Products Co., Ltd
S. Chaivaree Cold Storage Co., Ltd
S. Khonkaen Food Industry Public Co., Ltd
S.K. Foods (Thailand) Public Co. Limited
S2K Marine Product Co., Ltd
Sea Bonanza Food Co., Ltd
Sea Wealth Frozen Food Co., Ltd. ²⁰
Seafresh Industry Public Co., Ltd./Seafresh Fisheries ²¹
SEAPAC
Sea-Tech Intertrade Co., Ltd
Sethachon Co.. Ltd
Shianlin Bangkok Co., Ltd
Shing Fu Seaproducts Development Co
Siam Food Supply Co., Ltd
Siam Intersea Co., Ltd
Siam Marine Products Co., Ltd
Siam Ocean Frozen Foods Co., Ltd
Siam Union Frozen Foods (A.K.A. The Siam Union Frozen Foods Co., Ltd.)
Siamchai International Food Co., Ltd
Smile Heart Foods (A.K.A. Smile Heart Foods Co. Ltd.)
SMP Food Product Co., Ltd
Songkla Canning Public Co., Ltd
Southeast Asian Packaging and Canning Ltd
Southport Seafood (A.K.A. Southport Seafood Co., Ltd.)
Starfoods Industries Co., Ltd
STC Foodpak Ltd
Suntechthai Intertrading Co., Ltd
Surapon Foods Public Co. Ltd/Surat Seafoods Public Co., Ltd. ²²
Surapon Nichirei Foods Co., Ltd
Tep Kinsho Foods Co., Ltd
Tey Seng Cold Storage Co., Ltd./Chaiwarut Co., Ltd. ²³
Thai Agri Foods Public Co., Ltd
Thai I-Mei Frozen Foods Co., Ltd. ²⁴
Thai Ocean Venture Co., Ltd
Thai Royal Frozen Food Co., Ltd
Thai Spring Fish Co., Ltd
Thai Union Group Public Co., Ltd./Thai Union Seafood Co., Ltd./Pakfood Public Company Limited/Asia Pacific (Thailand) Co., Ltd./Chaophraya Cold Storage Co., Ltd./Okeanos Co., Ltd./Okeanos Food Co., Ltd./Takzin Samut Co., Ltd. ²⁵
Thai Union Manufacturing Company Limited
Top Product Food Co., Ltd
Trang Seafood Products Public Co., Ltd
Unicord Public Co., Ltd
Xian-Ning Seafood Co., Ltd
Yeenin Frozen Foods Co., Ltd
THE PEOPLE'S REPUBLIC OF CHINA: Certain Frozen Warmwater Shrimp, A-570-893 | 2/1/21-1/31/22
Allied Pacific Aquatic Products (Zhanjiang) Co., Ltd./Allied Pacific Food (Dalian) Co., Ltd.²⁶
Anhui Fuhuang Sungem Foodstuff Group Co., Ltd
Asian Seafoods (Zhanjiang) Co., Ltd
Beihai Anbang Seafood Co., Ltd
Beihai Boston Frozen Food Co., Ltd
Beihai Evergreen Aquatic Product Science and Technology Company Limited
Beihai Tianwei Aquatic Food Co. Ltd
Changli Luquan Aquatic Products Co., Ltd
Chengda Development Co Ltd
Colorful Bright Trade Co., Ltd
Dalian Beauty Seafood Company Ltd
Dalian Changfeng Food Co., Ltd
Dalian Guofu Aquatic Products and Food Co., Ltd
Dalian Haiqing Food Co., Ltd
Dalian Hengtai Foods Co., Ltd
Dalian Home Sea International Trading Co., Ltd
Dalian Philica International Trade Co., Ltd
Dalian Philica Supply Chain Management Co., Ltd
Dalian Rich Enterprise Group Co., Ltd
Dalian Shanhai Seafood Co., Ltd
Dalian Sunrise Foodstuffs Co., Ltd
Dalian Taiyang Aquatic Products Co., Ltd
Dandong Taihong Foodstuff Co., Ltd
Dongwei Aquatic Products (Zhangzhou) Co., Ltd
Ferrero Food
Fujian Chaohui Group
Fujian Chaowei International Trading
Fujian Dongshan County Shunfa Aquatic Product Co., Ltd
Fujian Dongwei Food Co., Ltd
Fujian Dongya Aquatic Products Co., Ltd
Fujian Fuding Seagull Fishing Food Co., Ltd
Fujian Haihun Aquatic Product Company
Fujian Hainason Trading Co., Ltd
Fujian Hongao Trade Development Co
Fujian R & J Group Ltd
Fujian Rongjiang Import and Export Co., Ltd
Fujian Zhaoan Haili Aquatic Co., Ltd
Fuqing Chaohui Aquatic Food Co., Ltd
Fuqing Dongwei Aquatic Products Industry Co., Ltd
Fuqing Longhua Aquatic Food Co., Ltd
Fuqing Minhua Trade Co., Ltd
Fuqing Yihua Aquatic Food Co., Ltd
Gallant Ocean Group
Guangdong Foodstuffs Import & Export (Group) Corporation
Guangdong Gourmet Aquatic Products Co., Ltd
Guangdong Jinhang Foods Co., Ltd
Guangdong Rainbow Aquatic Development
Guangdong Shunxin Marine Fishery Group Co., Ltd
Guangdong Taizhou Import & Export Trade Co., Ltd
Guangdong Universal Aquatic Food Co. Ltd
Guangdong Wanshida Holding Corp
Guangdong Wanya Foods Fty. Co., Ltd
HaiLi Aquatic Product Co., Ltd
Hainan Brich Aquatic Products Co., Ltd
Hainan Golden Spring Foods Co., Ltd
Hainan Qinfu Foods Co., Ltd
Hainan Xintaisheng Industry Co., Ltd
Huazhou Xinhai Aquatic Products Co. Ltd
Kuehne Nagel Ltd. Xiamen Branch
Leizhou Bei Bu Wan Sea Products Co., Ltd
Longhai Gelin Foods Co., Ltd
Maoming Xinzhou Seafood Co., Ltd
New Continent Foods Co., Ltd
Ningbo Prolar Global Co., Ltd
North Seafood Group Co
Pacific Andes Food Ltd
Penglai Huiyang Foodstuff Co., Ltd
Penglai Yuming Foodstuff Co., Ltd
Qingdao Fusheng Foodstuffs Co., Ltd
Qingdao Yihexing Foods Co., Ltd
Qingdao Yize Food Co., Ltd
Qingdao Zhongfu International
Qinhuangdao Gangwan Aquatic Products Co., Ltd
Raoping YuXiang Aquaculture Co., Ltd
Rizhao Meijia Aquatic Foodstuff Co., Ltd
Rizhao Meijia Keyuan Foods Co. Ltd
Rizhao Rongjin Aquatic
Rizhao Rongxing Co. Ltd
Rizhao Smart Foods Company Limited
Rongcheng Sanyue Foodstuff Co., Ltd
Rongcheng Yinhai Aquatic Product Co., Ltd
Rushan Chunjiangyuan Foodstuffs Co., Ltd
Rushan Hengbo Aquatic Products Co., Ltd
Savvy Seafood Inc
Sea Trade International Inc
Shanghai Finigate Integrated
Shanghai Zhoulian Foods Co., Ltd
Shantou Freezing Aquatic Product Foodstuffs Co
Shantou Haili Aquatic Product Co. Ltd
Shantou Haimao Foodstuff Factory Co., Ltd
Shantou Jiazhou Food Industrial Co., Ltd
Shantou Jinping Oceanstar Business Co., Ltd
Shantou Jintai Aquatic Product Industrial Co., Ltd
Shantou Longsheng Aquatic Product Foodstuff Co., Ltd
Shantou Ocean Best Seafood Corporation
Shantou Red Garden Food Processing Co., Ltd./Shantou Red Garden Foodstuff Co., Ltd. ²⁷
Shantou Ruiyuan Industry Co., Ltd
Shantou Wanya Foods Fty. Co., Ltd
Shantou Yuexing Enterprise Company
Shengyuan Aquatic Food Co., Ltd
Suizhong Tieshan Food Co., Ltd
Thai Royal Frozen Food Zhanjiang Co., Ltd
Tongwei Hainan Aquatic Products Co., Ltd
Time Seafood (Dalian) Company Limited
Xiamen East Ocean Foods Co., Ltd
Xiamen Granda Import and Export Co., Ltd
Yangjiang Dawu Aquatic Products Co., Ltd
Yangjiang Guolian Seafood Co., Ltd
Yangjiang Haina Datong Trading Co
Yantai Longda Foodstuffs Co., Ltd
Yantai Tedfoods Co., Ltd
Yantai Wei-Cheng Food Co., Ltd
Yixing Magnolia Garment Co., Ltd
Zhangzhou Donghao Seafoods Co., Ltd
Zhangzhou Fuzhiyuan Food Co., Ltd
Zhangzhou Hongwei Foods Co., Ltd
Zhangzhou Tai Yi Import & Export Trading Co., Ltd
Zhangzhou Xinhui Foods Co., Ltd
Zhangzhou Xinwanya Aquatic Product Co., Ltd
Zhangzhou Yanfeng Aquatic Product & Foodstuff Co., Ltd
Zhanjiang Evergreen Aquatic Product Science and Technology Co., Ltd
Zhanjiang Fuchang Aquatic Products Co., Ltd
Zhanjiang Fuchang Aquatic Products Freezing Plant
Zhanjiang Go-Harvest Aquatic Products Co., Ltd
Zhanjiang Guolian Aquatic Products Co., Ltd. ²⁸
Zhanjiang Longwei Aquatic Products Industry Co., Ltd
Zhanjiang Regal Integrated Marine Resources Co., Ltd. ²⁹
Zhanjiang Universal Seafood Corp
Zhaoan Yangli Aquatic Co., Ltd
Zhejiang Evernew Seafood Co
Zhejiang Xinwang Foodstuffs Co., Ltd
Zhenye Aquatic (Huilong) Ltd
Zhoushan Genho Food Co., Ltd
Zhoushan Green Food Co., Ltd
Zhoushan Haizhou Aquatic Products
Zhuanghe Yongchun Marine Products
THE PEOPLE'S REPUBLIC OF CHINA: Common Alloy Aluminum Sheet, A-570-073 | 2/1/21-1/31/22
Alcha International Holdings Limited
Jiangsu Alcha Aluminum Co., Ltd
Yinbang Clad Material Co., Ltd
THE PEOPLE'S REPUBLIC OF CHINA: Crystalline Silicon Photovoltaic Products, A-570-010 | 2/1/21-1/31/22
Anji Dasol Solar Energy Science & Technology Co., Ltd
BYD (Shangluo) Industrial Co., Ltd
Canadian Solar International Limited
Canadian Solar Manufacturing (Changshu) Inc
Canadian Solar Manufacturing (Luoyang) Inc
Changzhou Trina Hezhong Photoelectric Co., Ltd
Changzhou Trina Solar Energy Co., Ltd
Changzhou Trina Solar Yabang Energy Co., Ltd
Chint Energy (Haining) Co., Ltd.; Chint Solar (Hong Kong) Company Limited; Chint Solar (Jiuquan) Co., Ltd.; Chint Solar (Zhejiang) Co., Ltd.; Chint New Energy Technology (Haining) Co. Ltd
CSI Cells Co., Ltd
CSI Solar Power (China) Inc
CSI-GCL Solar Manufacturing (Yancheng) Co., Ltd
De-Tech Trading Limited HK
Hefei JA Solar Technology Co., Ltd
Hengdian Group DMEGC Magnetics Co. Ltd
Hubei Trina Solar Energy Co., Ltd
JA Solar Co., Ltd
JA Solar Technology Yangzhou Co., Ltd
Jiangsu Jinko Tiansheng Solar Co., Ltd
Jiawei Solarchina (Shenzhen) Co., Ltd
Jiawei Solarchina Co., Ltd
JingAo Solar Co., Ltd
Jinko Solar Co. Ltd
Jinko Solar Import and Export Co., Ltd
Jinko Solar International Limited
JinkoSolar Technology (Haining) Co., Ltd
Jiujiang Shengchao Xinye Technology Co., Ltd
Jiujiang Shengzhao Xinye Trade Co., Ltd
Lightway Green New Energy Co., Ltd
Longi (HK) Trading Ltd
Longi Solar Technology Co. Ltd.; Lerri Solar Technology Co., Ltd
Luoyang Suntech Power Co., Ltd
Ningbo ETDZ Holdings, Ltd
Ningbo Qixin Solar Electrical Appliance Co., Ltd
Perlight Solar Co., Ltd
Renesola Jiangsu Ltd
ReneSola Zhejiang Ltd
Risen (Luoyang) New Energy Co., Ltd
Risen (Wuhai) New Energy Co., Ltd
Risen Energy Co. Ltd.; Risen Energy (Changzhou) Co., Ltd
Ruichang Branch, Risen Energy (HongKong) Co., Ltd
Shanghai BYD Co., Ltd
Shenzhen Sungold Solar Co., Ltd
Shenzhen Topray Solar Co., Ltd
Shenzhen Yingli New Energy Resources Co., Ltd.; Baoding Jiasheng PhotovoltaicTechnology Co., Ltd.; Baoding Tianwei Yingli New Energy Resources Co., Ltd.; Beijing Tianneng Yingli New Energy Resources Co., Ltd.; Hainan Yingli New Energy Resources Co., Ltd.; Hengshui Yingli New Energy Resources Co., Ltd.; Lixian Yingli New Energy Resources Co., Ltd.; Tianjin Yingli New Energy Resources Co., Ltd.; Yingli Energy (China) Company Limited
Sumec Hardware & Tools Co., Ltd
Sunny Apex Development Ltd
Suntech Power Co., Ltd
Taizhou BD Trade Co., Ltd
tenKsolar (Shanghai) Co., Ltd
Trina Solar (Changzhou) Science & Technology Co., Ltd
Trina Solar (Hefei) Science and Technology Co., Ltd
Trina Solar Co., Ltd
Turpan Trina Solar Energy Co., Ltd
Wuxi Suntech Power Co., Ltd
Wuxi Tianran Photovoltaic Co., Ltd
Xiamen Yiyusheng Solar Co., Ltd
Yancheng Trina Guoneng Photovoltaic Technology Co., Ltd
Yingli Green Energy International Trading Company Limited
Yuhuan Jinko Solar Co., Ltd
Zhejiang Aiko Solar Energy Technology Co., Ltd
Zhejiang Jinko Solar Co., Ltd
Zhejiang Twinsel Electronic Technology Co., Ltd
THE PEOPLE'S REPUBLIC OF CHINA: Small Diameter Graphite Electrodes, A-570-929 ³⁰ | 2/1/21-1/31/22
5-Continent Imp. & Exp. Co., Ltd
Acclcarbon Co., Ltd
Allied Carbon (China) Co., Limited
Anssen Metallurgy Group Co., Ltd. (a.k.a. AMGL)
Apex Maritime (Dalian) Co., Ltd
Asahi Fine Carbon (Dalian) Co., Ltd
Assi Steel Co. Ltd
Beijing Fangda Carbon Tech Co., Ltd./Chengdu Rongguang Carbon Co., Ltd./Fangda
Carbon New Material Co., Ltd./Fushun Carbon Co., Ltd./Hefei Carbon Co., Ltd. ³¹
Beijing International Trade Co., Ltd
Beijing Kang Jie Kong Cargo Agent Expeditors (Tianjin Branch)
Beijing Shougang Huaxia International Trade Co. Ltd
Beijing Xincheng Sci-Tech. Development Inc
Beijing Xinchengze Inc
Brilliant Charter Limited
Carbon International
Chang Cheng Chang Electrode Co., Ltd
Chengdelh Carbonaceous Elements Factory
Chengdu Jia Tang Corp
China Carbon Graphite Group Inc
China Industrial Mineral & Metals Group
China Pingmei Shenma Group
China Shaanxi Richbond Imp. & Exp. Industrial Corp. Ltd
China Xingyong Carbon Co., Ltd
CIMM Group Co., Ltd
Dalian Carbon & Graphite Corporation
Dalian Honest International Trade Co., Ltd
Dalian Hongrui Carbon Co., Ltd
Dalian Horton International Trading Co., Ltd
Dalian Litian International Freight Forwarders Ltd
Dalian Litian International Transportation Co., Ltd
Dalian LST Metallurgy Co., Ltd
Dalian Oracle Carbon Co., Ltd
Dalian Shuangji Co., Ltd
Dalian Thrive Metallurgy Imp. & Exp. Co., Ltd
Dandong Xinxin Carbon Co., Ltd
Datong Carbon
Datong Xincheng Carbon Co., Ltd
Datong Xincheng New Materials Co., Ltd
De Well Container Shipping Corp. (Dewell Group)
Dechang Shida Carbon Co., Ltd
Dewell Group
Dignity Success Investment Trading Co., Ltd
Double Dragon Metals and Mineral Tools Co., Ltd
Ever Express Group Ltd
Fangda Lanzhou Carbon Joint Stock Company Co. Ltd
Foset Co., Ltd
Fushun Carbon Plant
Fushun Jinli Petrochemical Carbon Co., Ltd
Fushun Jinly Petro Carbon Co., Ltd
Fushun Jinly Petrochemical Carbon Co., Ltd
Fushun Oriental Carbon Co., Ltd
GES (China) Co. Ltd
Gold Success Group Ltd
Golden Harvest Resources Ltd
GR Industrial Corporation
Grafworld International Inc
Grameter Shipping Co., Ltd. (Qingdao Branch)
Guangdong Highsun Yongye (Group) Co., Ltd
Guanghan Shida Carbon Co., Ltd
Haimen Shuguang Carbon Industry Co., Ltd
Handan Hanbo Material Co., Ltd
Hanhong Precision Machinery Co., Ltd
Hebei Long Great Wall Electrode Co., Ltd
Hebei Shuntian Electrode Co., Ltd
Heico Universal (Shanghai) Distribution Co., Ltd
Heilongjiang Xinyuan Carbon Co. Ltd
Heilongjiang Xinyuan Carbon Products Co., Ltd
Heilongjiang Xinyuan Metacarbon Company Ltd
Henan JLV Graphite Co., Ltd
Henan Sanli Carbon Products Co., Ltd
Henan Sihai Import and Export Co., Ltd
Hohhot Muzi Carbon Trade Co., Ltd
Hopes (Beijing) International Co., Ltd
Huanan Carbon Factory
Hunan Mec Machinery and Electronics Imp. & Exp. Corp
Hunan Yinguang Carbon Factory Co., Ltd
Inner Mongolia QingShan Special Graphite and Carbon Co., Ltd
Intl Resources Business Ltd
Jiaozuo Zhongzhou Carbon Co., Ltd
Jiaozuo Zhongzhou Carbon Products Co., Ltd
Jichun International Trade Co., Ltd. of Jilin Province
Jilin Carbon Graphite Material Co., Ltd
Jilin Carbon Import and Export Company
Jilin Songjiang Carbon Co Ltd
Jinneng Group Co., Ltd
JL Carbon PTE Ltd
JL Group
Kaifeng Carbon Company Ltd
KASY Logistics (Tianjin) Co., Ltd
Kimwan New Carbon Technology and Development Co., Ltd
Kingstone Industrial Group Ltd
L & T Group Co., Ltd
Laishui Long Great Wall Electrode Co. Ltd
Lanzhou Carbon Co., Ltd
Lanzhou Carbon Import & Export Corp
Lanzhou Hailong New Material Co
Lanzhou Hailong Technology
Lanzhou Ruixin Industrial Material Co., Ltd
Lianxing Carbon (Shandong) Co., Ltd
Lianxing Carbon Qinghai Co., Ltd
Lianxing Carbon Science Institute
Lianyungang Jianglida Mineral Co., Ltd
Lianyungang Jinli Carbon Co., Ltd
Liaoyang Carbon Co. Ltd
Linghai Hongfeng Carbon Products Co., Ltd
Linyi County Lubei Carbon Co., Ltd
Maoming Yongye (Group) Co., Ltd
MBI Beijing International Trade Co., Ltd
Nantong Dongjin New Energy Co., Ltd
Nantong Falter New Energy Co., Ltd
Nantong River-East Carbon Co., Ltd
Nantong River-East Carbon Joint Stock Co., Ltd
Nantong Yangtze Carbon Corp. Ltd
Nantong Yanzi Carbon Co. Ltd
Ningxia Yonvey Coal Industries
Ningxia Yonvey Coal Industry Co., Ltd
Oracle Carbon Co., Ltd
Orient (Dalian) Carbon Resources Developing Co., Ltd
Orient Star Transport International, Ltd
Oriental Carbon Co. Limited
Pingdingshan Coal Group
Pudong Trans USA, Inc. (Dalian Office)
Qingdao Grand Graphite Products Co., Ltd
Qingdao Haosheng Metals Imp. & Exp. Co., Ltd
Qingdao Likun Graphite Co., Ltd
Qingdao Liyikun Carbon Development Co., Ltd
Qingdao Ruizhen Carbon Co., Ltd
Qingdao Yijia E.T.I. I/E Co., Ltd
Qingdao Youyuan Metallurgy Material Limited Company (China)
Quingdao Haosheng Metals & Minerals Imp. & Exp. Co., Ltd
Ray Group Ltd
Rex International Forwarding Co., Ltd
Ruitong Carbon Co., Ltd
Sangraf Energy Technology Co., Ltd
Sea Trade International, Inc
Seamaster Global Forwarding (China)
Shandong Basan Graphite New Material Plant
Shandong Zibo Continent Carbon Factory
Shanghai Carbon International Trade Co., Ltd
Shanghai GC Co., Ltd
Shanghai Jinneng International Trade Co., Ltd
Shanghai Shen-Tech Graphite Material Co., Ltd
Shanghai Topstate International Trading Co., Ltd
Shanxi Cimm Donghai Advanced Carbon Co., Ltd
Shanxi Datong Energy Development Co., Ltd
Shanxi Foset Carbon Co. Ltd
Shanxi Jiexiu Import and Export Co., Ltd
Shanxi Jinneng Group Co., Ltd
Shanxi Yunheng Graphite Electrode Co., Ltd
Shenyang Jinli Metals & Minerals Imp. & Exp. Co., Ltd
Shida Carbon Group
Shijiazhuang Carbon Co., Ltd
Shijiazhuang Heijin Trade Co., Ltd
Shijiazhuang Huanan Carbon Factory
Sichuan 5-Continent Imp & Exp Co., Ltd
Sichuan Dechang Shida Carbon Co., Ltd
Sichuan GMT International Inc
Sichuan Guanghan Shida Carbon Co., Ltd
Sichuan Shida Trading Co., Ltd
Sinicway International Logistics Ltd
Sino Industries Enterprise Ltd
Sinosteel Anhui Co., Ltd
Sinosteel Jilin Carbon Co., Ltd
Sinosteel Jilin Carbon Imp. & Exp. Co. Ltd
Sinosteel Sichuan Co., Ltd
SMMC Group Co., Ltd
Suncheon Electrode Co., Ltd
Sure Mega (Hong Kong) Ltd
T.H.I. Global Holdings Corp
T.H.I. Group (Shanghai), Ltd
Tangshan Kimwan Special Carbon & Graphite Co., Ltd
Tianjin (Teda) Iron & Steel Trade Co., Ltd
Tianjin Kimwan Carbon Technology and Development Co., Ltd
Tianjin Muzi Carbon International
Tianjin Yue Yang Industrial & Trading Co., Ltd
Tianzhen Jintian Graphite Electrodes Co., Ltd
Tielong (Chengdu) Carbon Co., Ltd
UK Carbon & Graphite
United Trade Resources, Inc
Weifang Lianxing Carbon Co., Ltd
World Trade Metals & Minerals Co., Ltd
XC Carbon Group
Xinghe County Muzi Carbon Co., Ltd
Xinghe County Muzi Carbon Plant
Xinghe Xingyong Carbon Co., Ltd
Xinghe Xinyuan Carbon Products Co., Ltd
Xinyuan Carbon Co., Ltd
Xuanhua Hongli Refractory and Mineral Company
Xuchang Minmetals & Industry Co., Ltd
Xuzhou Carbon Co., Ltd
Xuzhou Electrode Factory
Xuzhou Jianglong Carbon Products Co., Ltd
Yangzhou Qionghua Carbon Trading Ltd
Yixing Huaxin Imp & Exp Co. Ltd
Youth Industry Co., Ltd
Zhongping Energy & Chemical Group
Zibo Continent Carbon Factory
Zibo DuoCheng Trading Co., Ltd
Zibo Lianxing Carbon Co., Ltd
Zibo Wuzhou Tanshun Carbon Co., Ltd
THE PEOPLE'S REPUBLIC OF CHINA: Truck and Bus Tires, A-570-040 | 2/1/21-1/31/22
Giti Tire (Fujian) Company Ltd
Giti Tire (Anhui) Company Ltd
Giti Tire Global Trading Pte. Ltd
Qingdao Awesome International Trade Co., Ltd
Qingdao Fullrun Tyre Corp. Ltd
Shandong Haohua Tire Co., Ltd
Shandong Kaixuan Rubber Co., Ltd
Shandong Transtone Tyre Co., Ltd
Zhongce Rubber Group Co., Ltd
THE PEOPLE'S REPUBLIC OF CHINA: Uncovered Innerspring Units, A-570-928 | 2/1/21-1/31/22
Bomei Tex Ltd
Saffron Living Co., Ltd
THE PEOPLE'S REPUBLIC OF CHINA: Wood Mouldings and Millwork Products, A-570-117 | 8/12/20-1/31/22
Anji Golden Elephant Bamboo Wooden Industry Co., Ltd
Anji Huaxin Bamboo & Wood Products Co., Ltd
Aventra, Inc
Baixing Import and Export Trading Co., Ltd. Youxi Fujian
Bel Trade Wood Industrial Co., Ltd. Youxi Fujian
Cao County Hengda Wood Products Co., Ltd
China Cornici Co. Ltd
Evermark (Yantai) Co., Ltd
Fotiou Frames Limited
Fujian Hongjia Craft Products Co., Ltd
Fujian Jinquan Trade Co., Ltd
Fujian Nanping Yuanqiao Wood Industry Co., Ltd
Fujian Province Youxi County Baiyuan Wood Machining Co., Ltd
Fujian Province Youxi County ChangSheng Wood Machining Co., Ltd
Fujian Province Youxi City Mangrove Wood Machining Co., Ltd
Fujian Ruisen International Industrial Co., Ltd
Fujian Sanming City Donglai Wood Co., Ltd
Fujian Shunchang Shengsheng Wood Industry Limited Company
Fujian Wangbin Decorative Material Co., Ltd
Fujian Yinfeng Imp & Exp Trading Co., Ltd
Fujian Youxi Best Arts & Crafts Co., Ltd
Fujian Zhangping Kimura Forestry Products Co., Ltd
Gaomi Hongtai Home Furniture Co., Ltd
Heze Huasheng Wooden Co., Ltd
Homebuild Industries Co., Ltd
Huaan Longda Wood Industry Co., Ltd
Jiangsu Chen Sheng Forestry Development Co., Ltd
Jiangsu Wenfeng Wood Co., Ltd
Jim Fine Wooden Products Co., Ltd
Lanzhou Xinyoulian Industrial Co., Ltd
Lianyungang Tianke New Energy Technology Co., Ltd
Longquan Jiefeng Trade Co., Ltd
Nanping Huatai Wood & Bamboo Co., Ltd
Nanping Qiangmei Import & Export Co., Ltd
Omni One, Co., Limited
Oppein Home Group Inc
Pucheng County Qiangmei Wood Company, Ltd
Putian Yihong Wood Industry Co., Ltd
Qimen Jianxing Bamboo and Wood Goods Co., Ltd
Qingdao Sanhe Dacheng International Trade Co., Ltd
Raoping HongRong Handicrafts, Co., Ltd
Rizhao Duli Trade Co., Ltd
Rizhao Forest International Trading Co., Ltd
Rizhao Guantong Woodworking Co., Ltd
Rizhao Jiayue Industry & Trading Co., Ltd
Sanming Lingtong Trading Co., Ltd
Sanming Shitong Wood Industry Co., Ltd
Shandong Jicheng Decorative Material Co., Ltd
Shandong Miting Household Co., Ltd
Shaxian Hengtong Wood Industry Co., Ltd
Shaxian Shiyiwood, Ltd
Shenzhen Xinjintai Industrial Co., Ltd
Shouguang Luli Wood Industry Co., Ltd
Shuyang Kevin International Co., Ltd
Shuyang Zhongding Decoration Materials Co., Ltd
Sun Valley Shade Co., Ltd
Suqian Sulu Import & Export Trading Co., Ltd
The Ancientree Cabinet Co., Ltd
Tim Feng Manufacturing Co., Ltd
TL Wood Products Inc
Wuxi Boda Bamboo & Wood Industrial Co., Ltd
Xiamen Jinxi Building Material Co., Ltd
Xiamen Oubai Industry & Trade Co., Ltd
Xuzhou Goodwill Resource Co., Ltd
Xuzhou Hexi Wood Co., Ltd
Yongan Tenlong Bamboo & Wood Products Co., Ltd
Zhangping San Chuan Industrial & Trade Co., Ltd
Zhangzhou City Jinxi Building Material Co., Ltd
Zhangzhou Fukangyuan Industry and Trade Co., Ltd
Zhangzhou Green Wood Industry and Trade Co., Ltd
Zhangzhou Wangjiamei Industry and Trade Co., Ltd
Zhangzhou Yihong Industrial Co., Ltd
Zhejiang Senya Board Industry Co., Ltd
TURKEY: Prestressed Concrete Steel Wire Strand, A-489-842 | 9/30/20-1/31/22
Celik Halat ve Tel Sanayi A.S
CVD Proceedings Period to be Reviewed
CANADA: Certain Softwood Lumber Products, C-122-858 ³² | 1/1/21-12/31/21
Terminal Forest Products Ltd
Commonwealth Plywood Co. Ltd. ³³
INDIA: Certain Cold-Drawn Mechanical Tubing of Carbon and Alloy Steel, C-533-874 | 1/1/21-12/31/21
Goodluck India Limited
Lal Baba Seamless Tubes Pvt. Ltd
Metamorphosis Engitech India Pvt. Ltd
Tube Investments of India Limited
REPUBLIC OF KOREA: Certain Cut-To-Length Carbon-Quality Steel Plate, C-580-837 | 1/1/21-12/31/21
BDP International
Dongkuk Steel Mill Co., Ltd
Hyundai Steel Company
Sung Jin Steel Co., Ltd
THE PEOPLE'S REPUBLIC OF CHINA: Common Alloy Aluminum Sheet, C-570-074 | 1/1/21-12/31/21
Alcha International Holdings Limited
Jiangsu Alcha Aluminium Co., Ltd
Yinbang Clad Material Co., Ltd
THE PEOPLE'S REPUBLIC OF CHINA: Crystalline Silicon Photovoltaic Products, C-570-011 | 1/1/21-12/31/21
Trina Solar (Changzhou) Science & Technology Co. Ltd
THE PEOPLE'S REPUBLIC OF CHINA: Truck and Bus Tires, C-570-041 | 1/1/21-12/31/21
Bridgestone (Shenyang) Tire Co., Ltd
Chongqing Hankook Tire Co., Ltd
Double Coin Group (Jiangsu) Tire Co., Ltd. ³⁴
Double Coin Tyre Group (Shanghai) Imp & Exp Co., Ltd
Giti Tire (Anhui) Company Ltd
Giti Tire (Fujian) Company Ltd
Giti Tire Global Trading Pte. Ltd
Goodyear (Dalian) Tire Company Limited
Jiangsu Hankook Tire Co., Ltd
Joyall (Weihai) Tire Co., Ltd
Qingdao Awesome International Trade Co., Ltd
Qingdao Fullrun Tyre Corp. Ltd
Qingdao Ge Rui Da Rubber Co., Ltd. ³⁵
Shandong Haohua Tire Co., Ltd
Shandong Kaixuan Rubber Co., Ltd
Shandong Transtone Tyre Co., Ltd
Triangle Tyre Co., Ltd
Weifang Shunfuchang Rubber And Plastic Products Co., Ltd
Zhongce Rubber Group Co., Ltd
THE PEOPLE'S REPUBLIC OF CHINA: Wood Mouldings and Millwork Products, C-570-118 | 6/12/20-12/31/21
Anji Golden Elephant Bamboo Wooden Industry Co., Ltd
Anji Huaxin Bamboo & Wood Products Co., Ltd
Aventra Inc
Baixing Import and Export Trading Co., Ltd Youxi Fujian
Bel Trade Wood Industrial Co
Bel Trade Wood Industrial Co., Ltd Youxi Fujian
Cao County Hengda Wood Products Co., Ltd
China Cornici Co. Ltd
Evermark (Yantai) Co., Ltd
Fotiou Frames Limited
Fujian Hongjia Craft Products Co., Ltd
Fujian Jinquan Trade Co., Ltd
Fujian Province Youxi City Mangrove Wood Machining Co., Ltd
Fujian Province Youxi County Baiyuan Wood Machining Co., Ltd
Fujian Province Youxi County Chang Sheng Wood Machining Co., Ltd
Fujian Ruisen International Industrial Co., Ltd
Fujian Sanming City Donglai Wood Co., Ltd
Fujian Shunchang Shengsheng Wood Industry Limited Company
Fujian Wangbin Decorative Material Co., Ltd
Fujian Yinfeng Imp & Exp Trading Co., Ltd
Fujian Youxi Best Arts & Crafts Co., Ltd
Fujian Zhangping Kimura Forestry Products Co., Ltd
Gaomi Hongtai Home Furniture Co., Ltd
Heze Huasheng Wooden Co., Ltd
Homebuild Industries Co., Ltd
Huaan Longda Wood Industry Co., Ltd
Jiangsu Chensheng Forestry Development Co., Ltd
Jiangsu Wenfeng Wood Co., Ltd
Lanzhou Xinyoulian Industrial Co., Ltd
Lianyungang Tianke New Energy Technology Co., Ltd
Longquan Jiefeng Trade Co., Ltd
Nanping Huatai Wood & Bamboo Co., Ltd
Nanping Qiangmei Import & Export Co., Ltd
Omni One Co., Limited
Oppein Home Group Inc
Pucheng County Qiangmei Wood Company, Ltd
Putian Yihong Wood Industry Co., Ltd
Qimen Jianxing Bamboo and Wood Goods Co., Ltd
Qingdao Sanhe Dacheng International Trade Co., Ltd
Raoping HongRong Handicrafts Co., Ltd. (d.b.a. Chen Chui Global Corp.)
Rizhao Duli Trade Co., Ltd
Rizhao Forest International Trading Co., Ltd
Rizhao Guantong Woodworking Co., Ltd
Rizhao Jiayue Industry & Trading Co., Ltd
Sanming Lingtong Trading Co., Ltd
Sanming Lintong Trading Co., Ltd
Sanming Shitong Wood Industry Co., Ltd
Shandong Jicheng Decorative Material Co., Ltd
Shandong Miting Household Co., Ltd
Shaxian Hengtong Wood Industry Co., Ltd
Shaxian Shiyiwood, Ltd
Shenzhen Xinjintai Industrial Co., Ltd
Shouguang Luli Wood Industry Co., Ltd
Shuyang Kevin International Co., Ltd
Shuyang Zhongding Decoration Materials Co., Ltd
Suqian Sulu Import & Export Trading Co., Ltd
The Ancientree Cabinet Co., Ltd
Wuxi Boda Bamboo & Wood Industrial Co., Ltd
Xiamen Jinxi Building Material Co., Ltd
Xiamen Oubai Industry & Trade Co., Ltd
Xuzhou Goodwill Resource Co., Ltd
Xuzhou Hexi Wood Co., Ltd
Yongan Tenlong Bamboo & Wood Products Co., Ltd
Zhangping San Chuan Industrial & Trade Co., Ltd
Zhangzhou City Jinxi Building Material Co., Ltd
Zhangzhou Fukangyuan Industry and Trade Co., Ltd
Zhangzhou Green Wood Industry and Trade Co., Ltd.
Zhangzhou Wangjiamei Industry & Trade Co., Ltd
Zhangzhou Yihong Industrial Co., Ltd
Zhejiang Senya Board Industry Co., Ltd
TURKEY: Prestressed Concrete Steel Wire Strand, C-489-843 | 9/21/20-12/31/21
Celik Halat ve Tel Sanayi A.S

| Period to be reviewed
Suspension Agreements
None

Duty Absorption Reviews

⁵ Shrimp produced and exported by Devi Sea Foods Limited (Devi) was excluded from the order effective February 1, 2009. See Certain Frozen Warmwater Shrimp from India: Final Results of the Antidumping Duty Administrative Review, Partial Rescission of Review, and Notice of Revocation of Order in Part, 75 FR 41813, 41814 (July 19, 2010). Accordingly, we are initiating this administrative review with respect to Devi only for shrimp produced in India where Devi acted as either the manufacturer or exporter (but not both).

⁶ In the notice of initiation for April anniversary orders, published in the Federal Register on June 11, 2021 (86 FR 31282), Commerce inadvertently omitted one company for which a review was requested. Commerce hereby corrects that omission.

⁷ Where interested parties requested review of a company name combined with an abbreviation of the company name or alternative (i.e., doing-business-as) name, Commerce treated the company names separately from those abbreviations/alternatives for review initiation purposes.

⁸ Shrimp produced and exported by Minh Phu Hau Giang Seafood were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

⁹ Shrimp produced and exported by Minh Phu Seafood Corporation were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹⁰ Shrimp produced and exported by Minh Qui Seafood Co., Ltd. were excluded from the antidumping duty order on certain frozen warmwater shrimp from Vietnam, effective July 18, 2016. See Certain Frozen Warmwater Shrimp from the Socialist Republic of Vietnam: Notice of Implementation of Determination Under Section 129 of the Uruguay Round Agreements Act and Partial Revocation of the Antidumping Duty Order, 81 FR 47756, 47757-47758 (July 22, 2016). Accordingly, we are initiating this administrative review for this exporter only with respect to subject merchandise produced by another entity.

¹¹ In past reviews, Commerce has treated these companies as a single entity. See, e.g., Certain Frozen Warmwater Shrimp from Thailand: Final Results of Antidumping Duty Administrative Review; Final Determination of No Shipments; 2015-2016, 82 FR 30836 (July 3, 2017) (2015-2016 AR Final). Absent information to the contrary, we intend to continue to treat these companies as a single entity for the purpose of this administrative review.

¹² Shrimp produced and exported by Chanthaburi Frozen Food Co., Ltd. (Chanthaburi Frozen) were excluded from the order effective January 16, 2009. See Implementation of the Findings of the WTO Panel in United States-Antidumping Measure on Shrimp from Thailand: Notice of Determination Under Section 129 of the Uruguay Round Agreements Act and Partial Revocation of the Antidumping Duty Order on Frozen Warmwater Shrimp from Thailand, 74 FR 5638 (January 30, 2009) (Section 129 Determination). Accordingly, we are initiating this administrative review with respect to Chanthaburi Frozen only for shrimp produced in Thailand where Chanthaburi Frozen acted as either the manufacturer or exporter (but not both).

¹³ Shrimp produced and exported by Chanthaburi Seafoods Co., Ltd. (Chanthaburi Seafoods) were excluded from the order effective January 16, 2009. See Section 129 Determination. Accordingly, we are initiating this administrative review with respect to Chanthaburi Seafoods only for shrimp produced in Thailand where Chanthaburi Seafoods acted as either the manufacturer or exporter (but not both).

¹⁴ In past reviews, Commerce has treated these companies as a single entity. See, e.g., 2015-2016 AR Final. Absent information to the contrary, we intend to continue to treat these companies as a single entity for the purpose of this administrative review.

¹⁵ In past reviews, Commerce has treated these companies as a single entity. See, e.g., Certain Frozen Warmwater Shrimp from Thailand: Final Results and Final Partial Rescission of Antidumping Duty Administrative Review; 2006-2007, 73 FR 50933 (August 29, 2008) (2006-2007 AR Final). Absent information to the contrary, we intend to continue to treat these companies as a single entity for the purpose of this administrative review.

¹⁶ Shrimp produced and exported by Marine Gold Products Ltd. (Marine Gold) were excluded from the order effective February 1, 2012. See Certain Frozen Warmwater Shrimp from Thailand: Final Results of Antidumping Duty Administrative Review, Partial Rescission of Review, and Revocation of the Order (in Part); 2011-2012, 78 FR 42497 (July 16, 2013). Accordingly, we are initiating this administrative review with respect to Marine Gold only for shrimp produced in Thailand where Marine Gold acted as either the manufacturer or exporter (but not both).

¹⁷ In past reviews, Commerce has treated these companies as a single entity. See, e.g., 2015-2016 AR Final. Absent information to the contrary, we intend to continue to treat these companies as a single entity for the purpose of this administrative review.

¹⁸ Shrimp produced and exported by Phatthana Frozen Food Co., Ltd. (Phatthana Frozen) were excluded from the order effective January 16, 2009. See Certain Frozen Warm Water Shrimp from Thailand: Final Results of Antidumping Duty Changed Circumstances Review and Notice of Revocation in Part, 74 FR 52452 (October 13, 2009) (CCR Final and Partial Revocation). Accordingly, we are initiating this administrative review with respect to Phatthana Frozen only for shrimp produced in Thailand where Phatthana Frozen acted as either the manufacturer or exporter (but not both).

¹⁹ Shrimp produced and exported by Phatthana Seafood Co., Ltd. (Phatthana Seafood) were excluded from the order effective January 16, 2009. See Section 129 Determination. Accordingly, we are initiating this administrative review with respect to Phatthana Seafood only for shrimp produced in Thailand where Phatthana Seafood acted as either the manufacturer or exporter (but not both).

²⁰ Shrimp produced and exported by Sea Wealth Frozen Food Co., Ltd. (Sea Wealth) were excluded from the order effective January 16, 2009. See CCR Final and Partial Revocation. Accordingly, we are initiating this administrative review with respect to Sea Wealth only for shrimp produced in Thailand where Sea Wealth acted as either the manufacturer or exporter (but not both).

²¹ In past reviews, Commerce has treated these companies as a single entity. See, e.g., 2015-2016 AR Final. Absent information to the contrary, we intend to continue to treat these companies as a single entity for the purpose of this administrative review.

²² In past reviews, Commerce has treated these companies as a single entity. See, e.g., 2015-2016 AR Final. Absent information to the contrary, we intend to continue to treat these companies as a single entity for the purposes of this administrative review.

²³ In past reviews, Commerce has treated these companies as a single entity. See, e.g., 2006-2007 AR Final. Absent information to the contrary, we intend to continue to treat these companies as a single entity for the purpose of this administrative review.

²⁴ Shrimp produced and exported by Thai I-Mei Frozen Foods Co., Ltd. (Thai I-Mei) were excluded from the order effective January 16, 2009. See Section 129 Determination. Accordingly, we are initiating this administrative review with respect to Thai I-Mei only for shrimp produced in Thailand where Thai I-Mei acted as either the manufacturer or exporter (but not both).

²⁵ In past reviews, Commerce has treated these companies as a single entity. See, e.g., 2015-2016 AR Final. Absent information to the contrary, we intend to continue to treat these companies as a single entity for the purpose of this administrative review.

²⁶ Allied Pacific Food (Dalian) Co., Ltd., Allied Pacific (HK) Co., Ltd., Allied Pacific Aquatic Products (Zhanjiang) Co., Ltd; and Allied Pacific Aquatic Products (Zhongshan) Co., Ltd. comprise the single entity Allied Pacific. See Certain Frozen Warmwater Shrimp from the People's Republic of China and Diamond Sawblades and Parts Thereof from the People's Republic of China: Notice of Implementation of Determinations Under Section 129 of the Uruguay Round Agreements Act and Partial Revocation of the Antidumping Duty Orders, 78 FR 18958, 18959 (March 28, 2013) (China Shrimp Exclusion). Additionally, this Order was revoked with respect to merchandise exported by Allied Pacific (HK) Co., Ltd., or Allied Pacific Food (Dalian) Co., Ltd., and manufactured by Allied Pacific Aquatic Products (Zhanjiang) Co., Ltd., or Allied Pacific Aquatic Products (Zhongshan) Co., Ltd., or Allied Pacific Food (Dalian) Co., Ltd. See China Shrimp Exclusion, 78 FR at 18959. Accordingly, we are initiating this review for these exporters only with respect to subject merchandise produced by entities other than the aforementioned producers.

²⁷ Shantou Red Garden Food Processing Co., Ltd. and Shantou Red Garden Foodstuff Co., Ltd. comprise the single entity Shantou Red Garden Foods. See Certain Frozen Warmwater Shrimp from the People's Republic of China: Final Results of Antidumping Duty Administrative Review and Final Determination of No Shipments; 2018-2019, 85 FR 83891 (December 23, 2020).

²⁸ This Order was revoked with respect to subject merchandise produced and exported by Zhanjiang Guolian Aquatic Products Co., Ltd. See Notice of Amended Final Determination of Sales at Less Than Fair Value and Antidumping Duty Order: Certain Frozen Warmwater Shrimp from the People's Republic of China, 70 FR 5149, 5152 (February 1, 2005). Accordingly, we are initiating this review for this exporter only with respect to subject merchandise produced by another entity.

²⁹ This Order was revoked with respect to subject merchandise produced and exported by Zhanjiang Regal Integrated Marine Resources Co., Ltd. See Certain Frozen Warmwater Shrimp from the People's Republic of China: Final Results of Administrative Review; 2011-2012, 78 FR 56209, 56210 (September 12, 2013). Accordingly, we are initiating this review for this exporter only with respect to subject merchandise produced by another entity.

³⁰ Where interested parties requested review of a company name combined with an alternative name (i.e., an a.k.a. name that is not an abbreviation) or a former company name, Commerce treated the different versions of the company name separately for review initiation purposes.

³¹ Beijing Fangda Carbon Tech Co., Ltd., Chengdu Rongguang Carbon Co., Ltd., Fangda Carbon New Material Co., Ltd., Fushun Carbon Co., Ltd., and Hefei Carbon Co., Ltd. comprise a single entity: The Fangda Group. See Small Diameter Graphite Electrodes from the People's Republic of China: Preliminary Determination of Sales at Less Than Fair Value, Postponement of Final Determination, and Affirmative Preliminary Determination of Critical Circumstances, in Part, 73 FR 49408, 49411 12 (August 21, 2008), unchanged in Final Determination of Sales at Less Than Fair Value and Affirmative Determination of Critical Circumstances: Small Diameter Graphite Electrodes from the People's Republic of China, 74 FR 2049 (January 14, 2009). Absent information to the contrary, we intend to continue to treat these companies as a single entity for the purpose of this administrative review.

³² Terminal Forest Products Ltd. was inadvertently omitted from the initiation notice that published on March 9, 2022 (87 FR 13261). This omission is corrected in this notice.

³³ Commonwealth Plywood Co. Ltd. was inadvertently included with the company above it in 87 FR 13261. It is listed here separately for clarification.

³⁴ Commerce previously found the following companies to be cross-owned with Double Coin Group (Jiangsu) Tyre Co., Ltd: Shanghai Huayi Group Corporation Limited; Double Coin Group (Chongqing) Tyre Co., Ltd.; Double Coin Group (Xinjiang) Kunlun Tyre Co., Ltd.; Double Coin Group Shanghai Donghai Tyre Co. Ltd.; and Double Coin Holdings Ltd. See Truck and Bus Tires from the People's Republic of China: Amended Final Determination and Countervailing Duty Order, 84 FR 4434 (February 15, 2019).

³⁵ Commerce previously found the following companies to be cross-owned with Qingdao Ge Rui Da Rubber Co., Ltd.: Cooper Tire (China) Investment Co. Ltd.; Cooper (Kunshan) Tire Co., Ltd.; Qingdao Yiyuan Investment Co., Ltd. See Truck and Bus Tires from the People's Republic of China: Final Results of Countervailing Duty Administrative Review; 2019, 86 FR 72921 (December 23, 2021).

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,³⁶ available at www.govinfo.gov/content/pkg/FR-2013-07-17/pdf/2013-17045.pdf, prior to submitting factual information in this segment. Note that Commerce has temporarily modified certain of its requirements for serving documents containing business proprietary information, until further notice.³⁷

³⁶ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

³⁷ See Temporary Rule Modifying AD/CVD Service Requirements Due to COVID-19, 85 FR 41363 (July 10, 2020).

Any party submitting factual information in an AD or CVD proceeding must certify to the accuracy and completeness of that information using the formats provided at the end of the Final Rule.³⁸ Commerce intends to reject factual submissions in any proceeding segments if the submitting party does not comply with applicable certification requirements.

³⁸ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.³⁹ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

³⁹ See 19 CFR 351.302.

These initiations and this notice are in accordance with section 751(a) of the Act (19 U.S.C. 1675(a)) and 19 CFR 351.221(c)(1)(i).

Dated: April 5, 2022.
James Maeder,
Deputy Assistant Secretary for Antidumping and Countervailing Duty Operations.

[FR Doc. 2022-07766 Filed 4-11-22; 8:45 am]

BILLING CODE 3510-DS-P